DEPARTMENT OF AGRICULTURE

Forest Service

Madera County Resource Advisory Committee

AGENCY: Forest Service, USDA.

ACTION: Notice of Resource Advisory Committee meeting.

SUMMARY: Pursuant to the authorities in the Federal Advisory Committee Act of 1972 (Pub. L. 92-463) and under the secure Rural Schools and Community Self-Determination Act of 2000 (Pub. L. 106-393) the Sierra National Forest's Resource Advisory Committee for Madera County will meet on Monday, September 16, 2002. The Madera Resource Advisory Committee will meet at the Spring Valley Elementary School in O'Neals, CA. The purpose of the meeting is to review presentation for the Madera County Board of Supervisor's meeting September 17, 2002, update RAC committee outreach, and view presentation: “History and Future of Sierra Forest” CD, 30 minute presentation—Oregon State University, by Thomas Bonickerson, Texas A&M.

DATES: The Madera Resource Advisory Committee meeting will be held Monday, September 16, 2002. The meeting will be held from 7 p.m. to 9 p.m.

ADDRESSES: The Madera County RAC meeting will be held at the Spring Valley Elementary School, 46655 Road 200, O'Neals, CA 93645.

FOR FURTHER INFORMATION CONTACT: Dave Martin, U.S.D.A., Sierra National Forest, 57003 Road 225, North Fork, CA 93643 (559) 877-2218 ext. 3100; e-mail: dmartin05@fs.fed.us.

SUPPLEMENTARY INFORMATION: Agenda items to be covered include: (1) Review presentation for the Madera County Board of Supervisor's meeting September 17, 2002, (2) update on RAC committee outreach, and, (3) view presentation “History and Future of Sierra Forest”—a 30 minute CD presentation—Oregon State University, by Thomas Bonickerson, Texas A&M. The meeting is open to the public. Public input opportunity will be provided and individuals will have the opportunity to address the Committee at that time.

Dated: August 25, 2002.
David W. Martin,
District Ranger.

[FR Doc. 02-22306 Filed 8-30-02; 8:45 am]

BILLING CODE 3410-11-M